OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between October 1, 2006, and October 31, 2006. Future notices will be published on the fourth Tuesday of each month, or as soon as possible thereafter. A consolidated listing of all authorities as of June 30 is published each year.

Schedule A

No Schedule A appointments were approved for October 2006.

Schedule B

No Schedule B appointments were approved for October 2006.

The following Schedule C appointments were approved during October 2006:

Section 213.3303 Executive Office of the President

Office of Management and Budget

BOGS70004 Special Assistant and Counselor to the Controller to the Controller, Office of Federal Financial Management. Effective October 11, 2006.

BOGS60157 Confidential Assistant to the Administrator, E-Government and Information Technology. Effective October 23, 2006.

BOGS70005 Confidential Assistant to the Associate Director for Legislative Affairs. Effective October 23, 2006.

BOGS70006 Press Assistant to the Associate Director for Communications. Effective October 31, 2006.

Office of the United States Trade Representative

TNGS70001 Confidential Assistant to the Chief of Staff. Effective October 23, 2006.

Section 213.333 Office of Science and Technology Policy

TSGS60042 Deputy to the Associate Director to the Associate Director, Technology. Effective October 23, 2006.

TSGS60043 Program Management Specialist to the Chief of Staff and General Counsel. Effective October 23, 2006.

Section 213.334 Department of State

DSGS61115 Foreign Affairs Officer to the Assistant Secretary for International Organizational Affairs. Effective October 06, 2006.

DSGS61126 Staff Assistant to the Director, Policy Planning Staff. Effective October 11, 2006.

DSGS61128 Special Assistant to the Under Secretary for Global Affairs. Effective October 11, 2006.

DSGS61104 Special Assistant to the Director, Policy Planning Staff. Effective October 23, 2006.

DSGS61127 Special Assistant to the Assistant Secretary for International Organizational Affairs. Effective October 23, 2006.

Section 213.335 Department of the Treasury

DYGS60277 Speechwriter to the Assistant Secretary (Public Affairs). Effective October 31, 2006.

Section 213.336 Department of Defense

DDGS16985 Speechwriter to the Principal Deputy Assistant Secretary of Defense for Public Affairs. Effective October 06, 2006.

DDGS16986 Special Assistant to the Deputy General Counsel Legal Counsel. Effective October 06, 2006.

DDGS16999 Personal and Confidential Assistant to the Assistant Secretary of Defense (International Security Affairs). Effective October 16, 2006.

DDGS16984 Defense Fellow to the Special Assistant to the Secretary of Defense for White House Liaison. Effective October 23, 2006.

DDGS16995 Special Assistant to the Under Secretary of Defense (Acquisition, Technology, and Logistics). Effective October 23, 2006.

DDGS16996 Special Assistant to the Principal Deputy Assistant Secretary of Defense (Legal Affairs). Effective October 27, 2006.

DDGS16998 Staff Assistant to the Special Assistant to the Secretary of Defense for White House Liaison. Effective October 27, 2006.

DDGS16993 Deputy, White House Liaison Office to the Special Assistant to the Secretary of Defense for White House Liaison. Effective October 30, 2006.

Section 213.337 Department of the Army

DWGS60027 Special Assistant to the Deputy Under Secretary of the Army to the Deputy Under Secretary of the Army. Effective October 05, 2006.

DWGS60024 Personal and Confidential Assistant to the Under Secretary of the Army. Effective October 06, 2006.

Section 213.339 Department of the Air Force

DFGS08001 Special Assistant to the Deputy Assistant Secretary (Force Management Integration). Effective October 30, 2006.

Section 213.3310 Department of Justice

DJGS00406 Public Affairs Specialist to the Director, Office of Public Affairs. Effective October 27, 2006.

Section 213.3311 Department of Homeland Security

DMGS00577 Deputy Director of the Center for Faith Based and Community Initiatives to the Director of Faith-Based and Community Initiatives. Effective October 03, 2006.

DMGS00580 Associate Director of Strategic Communications for Policy to the Director of Strategic Communications. Effective October 03, 2006.

DMGS00578 Business Liaison Director to the Assistant Secretary for Private Sector. Effective October 05, 2006.

DMGS00579 Associate Director for Latin American Affairs to the Assistant Secretary for International Affairs. Effective October 05, 2006.

Section 213.3311 Department of Homeland Security

DMGS00583 Policy Advisor to the Chief of Staff. Effective October 11, 2006.

DMGS00581 Associate Director of Legislative Affairs to the Assistant Secretary for Legislative Intergovernmental Affairs. Effective October 24, 2006.

DMGS00582 Associate Director of Legislative Affairs to the Assistant Secretary for Legislative Intergovernmental Affairs. Effective October 24, 2006.

DMGS00586 Counselor to the Director and Deputy Director to the Under Secretary for Federal Emergency Management. Effective October 24, 2006.

Section 213.3312 Department of the Interior

DIGS01079 Science Advisor to the Assistant Secretary for Water and Science. Effective October 25, 2006.

Section 213.3313 Department of Agriculture

DAGS00864 Confidential Assistant to the Administrator, Rural Housing Service. Effective October 30, 2006.

Section 213.3314 Department of Commerce

DCGS00442 Director of Public Affairs to the Assistant Secretary for Telecommunications and Information. Effective October 06, 2006.

DCGS00431 Special Assistant to the Assistant Secretary for Export Administration. Effective October 11, 2006.

DCGS00531 Confidential Assistant to the Deputy Assistant Secretary for Services. Effective October 11, 2006.

DCGS00544 Chief of Staff to the Assistant Secretary and Director General of United States/For Commercial Services. Effective October 11, 2006.

DCGS60262 Deputy Director of Advisory Committees to the Director of Advisory Committees. Effective October 11, 2006.

DCGS60263 Special Assistant to the Executive Director for Trade Promotion and Outreach. Effective October 11, 2006.

DCGS60533 Special Assistant to the Deputy Under Secretary and Deputy Director of U.S. Patent and Trademark Office. Effective October 11, 2006.

Section 213.3315 Department of Labor

DLGS60190 Legislative Officer to the Assistant Secretary for Congressional and Intergovernmental Affairs. Effective October 03, 2006.

DLGS60078 Staff Assistant to the Assistant Secretary for Policy. Effective October 05, 2006.

DLGS60111 Regional Representative to the Assistant Secretary for Congressional and Intergovernmental Affairs. Effective October 05, 2006.

DLGS60178 Staff Assistant to the Counselor in the Office of the Secretary. Effective October 05, 2006.

DLGS60182 Staff Assistant to the White House Liaison. Effective October 05, 2006.

DLGS60278 Staff Assistant to the Chief Financial Officer. Effective October 05, 2006.

DLGS60228 Chief of Staff to the Assistant Secretary for Occupational Safety and Health. Effective October 24, 2006.

Section 213.3316 Department of Health and Human Services

DHGS60040 Special Assistant to the Chief of Staff. Effective October 03, 2006.

DHGS60056 Special Assistant to the Director Office of Refugee Resettlement. Effective October 24, 2006.

DHGS60042 Special Assistant to the Assistant Secretary for Public Affairs to the Assistant Secretary for Public Affairs. Effective October 27, 2006.

DHGS60238 Regional Director, Boston, Massachusetts, Region I to the Director of Intergovernmental Affairs. Effective October 27, 2006.

DHGS60698 Special Assistant to the Director, Office of External Affairs. Effective October 31, 2006.

Section 213.3318 Environmental Protection Agency

EPGS06028 Deputy Associate Administrator to the Associate Administrator for Congressional and Intergovernmental Relations. Effective October 27, 2006.

EPGS06029 Director, Office of Web Communications to the Associate Administrator for Public Affairs. Effective October 27, 2006.

Section 213.3325 United States Tax Court

JCGS60077 Trial Clerk to the Chief Judge. Effective October 26, 2006.

Section 213.3330 Securities and Exchange Commission

SEOT90007 Confidential Assistant to the Chairman. Effective October 25, 2006.

SEOT90008 Confidential Assistant to a Commissioner. Effective October 31, 2006.

Section 213.3331 Department of Energy

DEGS00545 Senior Policy Advisor to the Assistant Secretary for Fossil Energy. Effective October 23, 2006.

DEGS00544 Senior Communications Advisor to the Assistant Secretary of Energy (Environmental Management). Effective October 25, 2006.

DEGS00546 Senior Advisor to the Assistant Secretary for Policy and International Affairs. Effective October 26, 2006.

Section 213.3332 Small Business Administration

SBGS00606 Speech Writer to the Associate Administrator for Communications and Public Liaison. Effective October 06, 2006.

Section 213.3333 Federal Deposit Insurance Corporation

FDOT00010 Chief of Staff to the Chairman of the Board of Directors (Director). Effective October 20, 2006.

FDOT00011 Special Advisor to the Chairman to the Chairman of the Board of Directors (Director). Effective October 20, 2006.

Section 213.3337 General Services Administration

GSGS00166 Deputy Associate Administrator for Small Business Utilization to the Associate Administrator for Small Business Utilization. Effective October 05, 2006.

Section 213.3384 Department of Housing and Urban Development

DUGS60187 Staff Assistant to the Assistant Secretary for Public Affairs. Effective October 06, 2006.

Section 213.3391 Office of Personnel Management

PMGS60019 Special Assistant to the Director, Office of Communications and Public Liaison. Effective October 25, 2006.

Section 213.3396 National Transportation Safety Board

TBGS11123 Confidential Assistant to the Chairman. Effective October 23, 2006.

Section 213.3397 Federal Housing Finance Board

FBOT00010 Special Assistant to the Board Director. Effective October 23, 2006.

Section 213.33 National Endowment for the Humanities

NHGS00078 Associate Director of Communications and Chief Speechwriter to the Director of Communications. Effective October 25, 2006.

Office of Personnel Management.
Dan G. Blair,
Deputy Director.

[FR Doc. E6-21541 Filed 12-15-06; 8:45 am]

BILLING CODE 6325-39-P